DEPARTMENT OF TRANSPORTATION

National Highway Traffic Safety Administration

[U.S. DOT Docket Number NHTSA-2013-0176]

Reports, Forms, and Record Keeping Requirements

AGENCY: National Highway Traffic Safety Administration (NHTSA), DOT.

ACTION: Notice.

SUMMARY: In compliance with the Paperwork Reduction Act of 1995 (44 U.S.C. chapter 35), this notice announces that the Information Collection Request (ICR) abstracted below will be submitted to the Office of Management and Budge (OMB) for review. The ICR describes the nature of the information collection and its expected burden. A Federal Register Notice with a 60-day comment period soliciting public comments on the following information was published on January 28, 2013 (Federal Register/Vol. 78, No. 18/pp. 5866-5867).

DATES: Submit comments to the Office of Management and Budget (OMB) on or before August 7, 2013.

FOR FURTHER INFORMATION CONTACT: Carla Rush at the National Highway Traffic Safety Administration, Office of Crashworthiness Standards, Department of Transportation, 1200 New Jersey Avenue SE., Washington, DC 20590. Mrs. Rush's phone number is (202) 366-4583 and her email address is carla.rush@dot.gov.

SUPPLEMENTARY INFORMATION: OMB Control Number: To be issued at time of approval.

Title: National Survey of Principal Drivers of Vehicles with a Rear Seat Belt Reminder System

Type of Request: New collection.

Abstract: NHTSA seeks to collect data from those who drive vehicles equipped with a Rear Seat Belt Reminder System (SBRS), which are currently available on only a few vehicle models sold in the U.S., the test group, and draw comparisons to those who drive similar vehicles without a rear SBRS (the comparison group). To this end, NHTSA will collect basic demographic information from both groups and information on their passengers seat belt usage habits, as well as the effectiveness, preferences and acceptance of the rear SBRS. NHTSA will use the findings from this proposed collection of information in support of an analysis of the potential benefits of requiring a rear SBRS in new vehicles sold in the United States.

In conducting the proposed telephone interviews, the interviewers would use computer-assisted telephone interviewing to reduce interview length and minimize recording errors. No personally identifiable information will be collected during the telephone interviews. NHTSA has decided not to use a Spanish-language translation or bilingual interviewers based on the prevalence of the use of English in the United States.

Respondents: Telephone interviews will be administered to a national sample of people 18 and older who are primary drivers of vehicles with a specific make and model.

Estimated Number of Respondents: 2,500 survey respondents.

Estimated Time per Response: 15 minutes per interview.

Total Estimated Annual Burden: 625 hours.

Frequency of Collection: The survey will be administered a single time.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Issued on: June 27, 2013.
Lori K. Summers,
Acting Associate Administrator for Rulemaking.

[FR Doc. 2013-16268 Filed 7-5-13; 8:45 am]

BILLING CODE 4910-59-P